DEPARTMENT OF TRANSPORTATION

Federal Aviation Administration

14 CFR Part 39

[Docket No. FAA-2005-20727; Directorate Identifier 2004-NM-148-AD; Amendment 39-14113; AD 2005-11-11]

RIN 2120-AA64

Airworthiness Directives; Bombardier Model DHC-8-400, -401, and -402 Series Airplanes

AGENCY: Federal Aviation Administration (FAA), Department of Transportation (DOT).

ACTION: Final rule.

SUMMARY: The FAA is adopting a new airworthiness directive (AD) for certain Bombardier Model DHC-8-400, -401, and -402 series airplanes. This AD requires repetitive inspections to detect discrepancies of the attachment fittings of the outboard flap front spar at flap track Number 4 and Number 5 locations, and corrective actions if necessary. This AD also requires eventual replacement of the attachment fittings as terminating action for the repetitive inspections. This AD is prompted by the discovery of several airplanes that have loose flap front spar attachment fittings at flap track Number 4 and Number 5 locations. We are issuing this AD to prevent the attachment fittings from becoming detached, and consequent loss of control of the airplane.

DATES: This AD becomes effective July 12, 2005.

The incorporation by reference of certain publications listed in the AD is approved by the Director of the Federal Register as of July 12, 2005.

ADDRESSES: For service information identified in this AD, contact Bombardier, Inc., Bombardier Regional Aircraft Division, 123 Garratt Boulevard, Downsview, Ontario M3K 1Y5, Canada.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20727; the directorate identifier for this docket is 2004-NM-148-AD.

FOR FURTHER INFORMATION CONTACT: David A. Lawson, Aerospace Engineer, Airframe and Propulsion Branch, ANE-171, FAA, New York Aircraft Certification Office, 1600 Stewart Avenue, suite 410, Westbury, New York 11590; telephone (516) 228-7327; fax (516) 794-5531.

SUPPLEMENTARY INFORMATION: The FAA proposed to amend 14 CFR part 39 with an AD for certain Bombardier Model DHC-8-400, -401, and -402 series airplanes. That action, published in the Federal Register on March 30, 2005 (70 FR 16170), proposed to require repetitive inspections to detect discrepancies of the attachment fittings of the outboard flap front spar at flap track Number 4 and Number 5 locations, and corrective actions if necessary. The proposed AD also would require eventual replacement of the attachment fittings as terminating action for the repetitive inspections.

Explanation of Change to Applicability

We have revised the applicability of the proposed AD to identify model designations as published in the most recent type certificate data sheet for the affected models.

Comments

We provided the public the opportunity to participate in the development of this AD. We have considered the comment that was submitted on the proposed AD. The commenter supports the proposed AD.

Conclusion

We have carefully reviewed the available data, including the comment that has been submitted, and determined that air safety and the public interest require adopting the AD with the change described previously. We have determined that this change will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet hours
Inspections (per inspection cycle) | 1 | $65 | $0 | $65 | 22 | $1,430 per inspection cycle.
Permanent repair | 20 | 65 | 0 | 1,300 | 22 | $28,600.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-11-11 Bombardier, Inc. (Formerly de Havilland, Inc.): Amendment 39-14113. Docket No. FAA-2005-20727; Directorate Identifier 2004-NM-148-AD.

Effective Date

(a) This AD becomes effective July 12, 2005.

Affected ADs

(b) None.

Applicability

(c) This AD applies to Bombardier Model DHC-8-400, -401 and -402 series airplanes, certificated in any category; serial numbers 4001, and 4003 through 4093 inclusive.

Unsafe Condition

(d) This AD was prompted by the discovery of several airplanes that have loose flap front spar attachment fittings at flap track Number 4 and Number 5 locations. We are issuing this AD to prevent the attachment fittings from becoming detached, and consequent loss of control of the airplane.

Compliance

(e) You are responsible for having the actions required by this AD performed within the compliance times specified, unless the actions have already been done.

Service Bulletin Reference

(f) The term “service bulletin,” as used in this AD, means the Accomplishment Instructions of Bombardier Alert Service Bulletin A84-57-06, Revision “B,” dated March 9, 2004.

Inspections of Flap Track Number 4

(g) For any front spar attachment fitting at the flap track Number 4 location on which Bombardier Repair Drawing (RD) RD8/4-57-228, Issue 1, dated October 27, 2003; in combination with Bombardier RD8/4-57-173, Issue 2, dated June 17, 2003; or Bombardier RD8/4-57-180, Issue 2, dated September 22, 2003; or Bombardier RD8/4-57-226, Issue 2, dated November 11, 2003; has not been done prior to the effective date of this AD: Within 400 flight hours after the effective date of this AD, do a general visual inspection to detect discrepancies of the front spar attachment fittings at the flap track Number 4 location on both the left and right outboard flap assemblies. Do the inspection in accordance with the service bulletin. Repeat the inspection thereafter at intervals not to exceed 800 flight hours until the terminating action required by paragraph (j) of this AD is done.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Inspections of Flap Track Number 5

(h) Within 400 flight hours after the effective date of this AD, do a general visual inspection to detect discrepancies of the front spar attachment fittings at the flap track Number 5 location on both the left and right outboard flap assemblies. Do the inspection in accordance with the service bulletin. Repeat the inspection thereafter at intervals not to exceed 800 flight hours until the terminating action required by paragraph (j) of this AD is done.

Corrective Actions

(i) If any discrepancy is found during any inspection required by paragraph (g) or (h) of this AD, before further flight, repair the discrepancy in accordance with the service bulletin. Where the service bulletin says to contact the manufacturer for repair instructions, before further flight, repair in accordance with a method approved by either the Manager, New York Aircraft Certification Office (ACO), FAA; or Transport Canada Civil Aviation (TCCA) (or its delegated agent).

Terminating Action—Permanent Repair

(j) Within 4,000 flight hours after the effective date of this AD, do the permanent repair required by paragraphs (j)(1) and (j)(2) of this AD. Completing the permanent repair constitutes terminating action for the requirements of this AD.

(1) Modify the attachment of the front fittings of flap track Number 4 on both the left and right outboard flap assemblies in accordance with Bombardier RD8/4-57-226, Issue 2, dated November 11, 2003. Fittings on which the repairs specified in Bombardier RD8/4-57-173, Issue 2, dated June 17, 2003; or Bombardier RD8/4-57-180, Issue 2, dated September 22, 2003; have been done do not require that Bombardier RD8/4-57-226 be incorporated at those fitting locations.

(2) Modify the attachment of the front fittings of flap track Number 5 on both the left and right outboard flap assemblies in accordance with Bombardier Modification Summary Package IS4Q5750002, Revision D, dated December 1, 2003.

Inspections Accomplished According to Previous Issue of Service Bulletin

(k) Inspections accomplished before the effective date of this AD in accordance with Bombardier Alert Service Bulletin A84-57-06, dated November 5, 2003; or Revision “A,” dated December 16, 2003; are acceptable for compliance with the inspections required by this AD.

No Reporting Requirement

(l) Although the service bulletin specifies to submit certain information to the manufacturer, this AD does not include that requirement.

Alternative Methods of Compliance (AMOCs)

(m) The Manager, New York Aircraft Certification Office, FAA, has the authority to approve AMOCs for this AD, if requested in accordance with the procedures found in 14 CFR 39.19.

Related Information

(n) Canadian airworthiness directive CF-2004-11, dated June 28, 2004, also addresses the subject of this AD.

Material Incorporated by Reference

(o) You must use the service documents listed in Table 1 of this AD to perform the actions that are required by this AD, unless the AD specifies otherwise. (Only page 2 of Bombardier Modification Summary Package IS4Q5750002, contains the issue date of the document; no other page of the document contains this information. Only page 1 of Bombardier Repair Drawing RD8/4-57-226, Issue 2, contains the issue date of the document; no other page of this document contains this information.) The Director of the Federal Register approves the incorporation by reference of these documents in accordance with 5 U.S.C. 552(a) and 1 CFR part 51. To get copies of the service information, contact Bombardier, Inc., Bombardier Regional Aircraft Division, 123 Garratt Boulevard, Downsview, Ontario M3K 1Y5, Canada. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Table 1.—Material Incorporated by Reference
Service document | Revision/issue level | Date
Bombardier Alert Service Bulletin A84-57-06 | B | March 9, 2004.
Bombardier Modification Summary Package IS4Q5750002 | D | December 1, 2003.
Bombardier Repair Drawing RD8/4-57-226 | 2 | November 11, 2003.

Issued in Renton, Washington, on May 26, 2005.
Ali Bahrami,
Manager, Transport Airplane Directorate, Aircraft Certification Service.

[FR Doc. 05-11057 Filed 6-6-05; 8:45 am]

BILLING CODE 4910-13-P